DEPARTMENT OF AGRICULTURE

Animal and Plant Health Inspection Service

[Docket No. 03-075-2]

Public Meeting; Plant Protection and Quarantine Stakeholders

AGENCY: Animal and Plant Health Inspection Service, USDA.

ACTION: Notice of public meeting.

SUMMARY: We are advising the public that the Animal and Plant Health Inspection Service will hold a public meeting for the purpose of exchanging information on our Plant Protection and Quarantine (PPQ) programs with stakeholders that are affected by our programs. This notice provides additional information about the agenda for the meeting, which is now being finalized.

DATES: The meeting will be held December 9 and 10, 2003.

ADDRESSES: The meeting will be held at the Melrose Hotel, 2430 Pennsylvania Avenue NW., Washington, DC.

FOR FURTHER INFORMATION CONTACT: Ms. Paula Henstridge, Special Assistant to the Deputy Administrator, Plant Protection and Quarantine, Room 302-E Whitten Building, 14th Street and Independence Avenue SW., Washington, DC 20250; (202) 720-1737; e-mail paula.henstridge@aphis.usda.gov; or Mr. Michael Lidsky, Assistant Director for Regulatory Coordination, Plant Health Programs, 4700 River Road Unit 141, Riverdale, MD 20737 (301) 734-5762; e-mail michael.a.lidsky@aphis.usda.gov.

SUPPLEMENTARY INFORMATION: The Animal and Plant Health Inspection Service's Plant Protection and Quarantine (PPQ) unit protects and safeguards the Nation's plant resources through programs and activities to prevent the introduction and spread of plant pests and noxious weeds. On September 5, 2003, APHIS published a notice in the Federal Register (68 FR 52736, Docket No. 03-075-1) announcing that PPQ plans to hold a public meeting on December 9 and 10, 2003, to exchange information with stakeholders. We believe that such an information exchange is particularly timely as PPQ moves forward from the operation of certain agricultural quarantine and inspection activities, which have been transferred to the newly established Customs and Border Protection function of the Department of Homeland Security.

We solicited comments for 30 days regarding suggestions for topics for discussion at the meeting. A total of five comments were received. Commenters raised issues concerning whether APHIS needs to establish a process for seeking comment from stakeholders prior to discussions with the North American Plant Protection Organization (NAPPO) or the International Plant Protection Convention (IPPC), and whether permit requirements for exotic and domestic microbial plant pathogens affect the cost and quality of research on important pathogens. Other commenters raised issues about the accessibility of operational work plans pertaining to imports; making details available about risk mitigation early on in the risk assessment process; expanding, via the stakeholder registry, notifications on proposed actions of international standard-setting bodies such as NAPPO and the IPPC; and the agency's plans with regard to the revision of the regulations for importing nursery stock. The agency believes that these topics are appropriate for discussion at one of the following five workshop sessions that are planned for December 10:

• Pest Risk Assessments—Models, Process, and Participation

• Import Permits and Export Certification—Service, Standardization, Security, and Automation

• Developing Strategic Approaches to Exports

• The Stakeholder Role in the Department of Homeland Security

• Integrating Federal, State, Tribal, and Industry Players/Partners in the Incident Command System

The agency is also planning a separate presentation with regard to strategies for revising the nursery stock regulations.

In addition to the workshops and presentation referenced above, the following topics are on the agenda for the meeting: An overview of the PPQ mission and structure as well as the year in review; governmental perspectives on the relationships between PPQ, State cooperators and Tribal governments; future priorities in plant quarantine programs; an industry perspective on needs and emerging pest threats; the view from Congress; the partnership with Department of Homeland Security and how the shared mission is being accomplished; how the harnessing of information, collection of data, and use of improved response models is transforming plant health; a budget update and outlook; the harmonization of regulatory approaches for the regulations for importing nursery stock and the regulations for importing fruits and vegetables; and an update on import and export issues.

We request that all persons wishing to attend the meeting preregister on the PPQ Web site, http://www.aphis.usda.gov/ppq/stakeholders/meeting/index.html. There is no registration fee. Attendance will be guaranteed to the first 100 persons who preregister by November 30, 2003. Persons who preregister should indicate which one of the five concurrent workshops they would like to attend. Those without access to the Internet may preregister by contacting Ms. Linda Toran at (301) 734-5307. A tentative final agenda has now been posted on the Web site referenced above.

The Melrose Hotel is setting aside a number of rooms at the conference rate. When reserving a room, please specify that you would like the USDA/APHIS rate. The telephone number for the hotel is (202) 955-6400 or toll free (800) 635-7673. The hotel's Web site is http://www.melrosehotelwashingtondc.com.

Done in Washington, DC, this 10th day of November 2003.
Peter Fernandez,
Acting Administrator, Animal and Plant Health Inspection Service.

[FR Doc. 03-28624 Filed 11-14-03; 8:45 am]

BILLING CODE 3410-34-P